DEPARTMENT OF TRANSPORTATION

Federal Highway Administration

Environmental Impact Statement: King County, WA

AGENCY: Federal Highway Administration (FHWA), DOT.

ACTION: Notice of Intent.

SUMMARY: The FHWA is issuing this notice to advise the public that an environmental impact statement will be prepared for a proposed road project in King County, Washington.

FOR FURTHER INFORMATION CONTACT: Elizabeth Healy, Transportation and Environmental Engineer, Federal Highway Administration, 711 South Capitol Way, Suite 501, Olympia, Washington 98501-1284, Telephone: (360) 534-9323 or Alan Andree, Senior Engineer, King County, Road Services Division, Department of Transportation, King Street Center M.S. KSC-TR-0231, 201 South Jackson Street, Seattle, WA 98104-3856, Telephone: (206) 296-8086.

SUPPLEMENTARY INFORMATION: The FHWA, in cooperation with the Washington State Department of Transportation and King County Department of Transportation, will prepare an environmental impact statement (EIS) on a proposal to improve a portion of Northwest Novelty Hill Road in King County, Washington. The proposed improvement to the Northeast Novelty Hill Road would involve improvements to the road, and would include stormwater detention facilities, safety improvements and pedestrian, equestrian and bicycle facilities. The project is located between Avondale Road Northeast and the Redmond Ridge (formerly Northridge and Blakely Ridge) urban planned developments, including intersection improvements at 243rd Avenue Northeast, an approximately three mile long corridor.

Improvements to the road are considered necessary to reduce anticipated traffic congestion and improve safety by increasing vehicle capacity and providing improved pedestrian and bicycle facilities. Alternatives under consideration include (1) taking no action; (2) constructing a three-lane road; (3) constructing a five-lane road. Incorporated into and studied with the various build alternatives will be design variations of grade and alignment.

Letters describing the proposed action and soliciting comments will be sent to appropriate Federal, State, and local agencies, and to private organizations and citizens who have previously expressed or are known to have interest in this proposal. A series of public meetings will be held in King County between January 2001 and February 2002. In addition, a public hearing will be held. Public notice of actions related to the proposal which identify the date, time and place of the meetings and hearings, and note the length of review periods will be published when appropriate. The draft EIS will be available for public and agency review and comment prior to the public hearing. A formal scoping meeting is planned for Tuesday, January 23, 2001 and will be announced in the local news media and through a public mailing.

To ensure that the full range of issues related to this proposed action are addressed and all significant issues identified, comments, and suggestions are invited from all interested parties. Comments or questions concerning this proposed action and the EIS should be directed to the FHWA at the address provided above.

(Catalog of Federal Domestic Assistance program Number 20.205, Highway Planning and Construction. The regulations implementing Executive order 12372 regarding intergovernmental consultation on Federal programs and activities apply to this program)
Issued on: January 9, 2001.
Elizabeth Healy,
Transportation and Environmental Engineer, Olympia, Washington.

[FR Doc. 01-1508 Filed 1-17-01; 8:45 am]

BILLING CODE 4910-22-M